DEPARTMENT OF ENERGY

Environmental Management Site-Specific Advisory Board, Northern New Mexico

AGENCY: Department of Energy.

ACTION: Notice of open meeting and retreat.

SUMMARY: This notice announces a meeting of the Environmental Management Site-Specific Advisory Board (EM SSAB), Northern New Mexico. The Federal Advisory Committee Act (Pub. L. No. 92-463, 86 Stat. 770) requires that public notice of this meeting be announced in the Federal Register.

DATES: Wednesday, May 23, 2007, 8 a.m.-5 p.m. Thursday, May 24, 2007, 9 a.m.-12 p.m.

ADDRESSES: Cities of Gold Hotel, Conference Room, 10-A Cities of Gold Road, Pojoaque, New Mexico.

FOR FURTHER INFORMATION CONTACT: Menice Santistevan, Northern New Mexico Citizens' Advisory Board, 1660 Old Pecos Trail, Suite B, Santa Fe, NM 87505. Phone (505) 995-0393; Fax (505) 989-1752 or e-mail: msantistevan@doeal.gov.

SUPPLEMENTARY INFORMATION: Purpose of the Board: The purpose of the Board is to make recommendations to DOE in the areas of environmental restoration, waste management, and related activities.

Tentative Agenda

Retreat—Wednesday, May 23, 2007

9 a.m. History of the Northern New Mexico Citizens' Advisory Board (NNMCAB).

9:15 a.m. Consent Order, Los Alamos National Laboratory.

• Background and Development.

• Outline of Contents.

• Components.

1. Characterization.

2. Corrective Measures Evaluation.

3. Selection of Remedy.

4. Public Participation.

10:15 a.m. Break.

10:30 a.m. Technical Area 21 Example, Question and Answer.

12 p.m. Lunch Break.

1 p.m. New Mexico Environment Department (NMED) Critical Issues.

• How Selected.

• NMED Issues of Concern.

• RCRA Permit Renewal.

2 p.m. Department of Energy, Los Alamos Site Office, George Rael.

2:45 p.m. Break.

3 p.m. Federal Facilities Compliance Act, Environmental Protection Agency.

3:45 p.m. NNMCAB Communications.

• Web site Training, Lorelei Novak.

• Speaker's Bureau.

• Discussion regarding Reinstatement of Community Involvement Committee.

• Robert's Rule of Order Overview, Rosemary Romero.

4:45 p.m. Strategic Planning.

5:45 p.m. Round Robin.

6 p.m. Adjourn.

Meeting—Thursday, May 24, 2007

9 a.m. Call to Order by Deputy Designated Federal Officer, Christina Houston.

Establishment of a Quorum.

Welcome and Introductions by Chair, J. D. Campbell.

Approval of Agenda.

Approval of Minutes of March 12, 2007, Board Meeting.

Approval of Minutes of April 10, 2007, Board Meeting.

9:30 a.m. Board Business/Reports.

• Report from Nominating Committee, Election of Vice-Chair.

• Report from Chair, J. D. Campbell.

• Report from Department of Energy, Christina Houston.

• Report from Executive Director, Menice Santistevan.

• Environmental Monitoring, Surveillance, and Remediation Committee, Pam Henline.

• Waste Management Committee, Committee Chair.

New Business.

10:15 a.m. Public Comment.

10:30 a.m. Break.

10:45 a.m. Report from Ad Hoc Committee on Bylaws, Presentation of Proposed Amendments for First Reading.

11:30 a.m. Consideration and Action on Recommendations to DOE.

11:45 a.m. Round Robin on Retreat and Board Meeting, Board Members.

11:55 a.m. Recap of Meeting: Issuance of Press Releases, Editorials, etc., Board Members.

12 p.m. Adjourn, Christina Houston.

This agenda is subject to change at least one day in advance of the meeting.

Public Participation: The meeting is open to the public. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes of this meeting will be available for public review and copying at the U.S. Department of Energy's Freedom of Information Public Reading Room, 1E-190, Forrestal Building, 1000 Independence Avenue, SW., Washington, DC 20585 between 9 a.m. and 4 p.m., Monday-Friday, except Federal holidays. Minutes will also be available at the Public Reading Room located at the Board's office at 1660 Old Pecos Trail, Suite B, Santa Fe, NM. Hours of operation for the Public Reading Room are 9 a.m.-4 p.m. on Monday through Friday. Minutes will also be made available by writing or calling Menice Santistevan at the Board's office address or telephone number listed above. Minutes and other Board documents are on the Internet at: http://www.nnmcab.org.

Issued at Washington, DC, on April 23, 2007.
Rachel M. Samuel,
Deputy Advisory Committee Management Officer.

[FR Doc. E7-8079 Filed 4-26-07; 8:45 am]

BILLING CODE 6450-01-P